DEPARTMENT OF TRANSPORTATION

Federal Aviation Administration

14 CFR Part 39

[Docket No. FAA-2006-23760; Directorate Identifier 2005-NM-211-AD; Amendment 39-14605; AD 2006-11-01]

RIN 2120-AA64

Airworthiness Directives; Airbus Model A300 B4-600R and A300 F4-600R Series Airplanes

AGENCY: Federal Aviation Administration (FAA), Department of Transportation (DOT).

ACTION: Final rule.

SUMMARY: The FAA is superseding an existing airworthiness directive (AD), which applies to certain Airbus Model A300 B4-600R and A300 F4-600R series airplanes. That AD currently requires repetitive inspections for damage of the center tank fuel pumps and fuel pump canisters and replacement of any damaged parts, and mandates modification of the canisters of the center tank fuel pumps, which terminates the repetitive inspections. For certain airplanes, this new AD requires a one-time inspection of the attachment bolts of the outlet flange of the canisters of the center tank fuel pumps for bolts that are too short and do not protrude through the nut, and replacement of the bolts if necessary. This AD results from several reports that the attachment bolts for the canisters, modified by the requirements in the existing AD, are too short and do not fully protrude from the nuts. We are issuing this AD to prevent damage to the fuel pump and fuel pump canister, which could result in loss of flame trap capability and could provide a fuel ignition source in the center fuel tank.

DATES: This AD becomes effective June 27, 2006.

The Director of the Federal Register approved the incorporation by reference of certain publications listed in the AD as of June 27, 2006.

On December 20, 2004 (69 FR 65528, November 15, 2004), the Director of the Federal Register approved the incorporation by reference of certain publications.

On February 8, 2000 (65 FR 213, January 4, 2000), the Director of the Federal Register approved the incorporation by reference of a certain publication.

On December 28, 1998 (63 FR 70639, December 22, 1998), the Director of the Federal Register approved the incorporation by reference of a certain publication.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, Transport Airplane Directorate, FAA, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2004-23-08, amendment 39-13863 (69 FR 65528, November 15, 2004). The existing AD applies to certain Airbus Model A300 B4-600R and A300 F4-600R series airplanes. That NPRM was published in the Federal Register on February 2, 2006 (71 FR 5620). That NPRM proposed to continue to require repetitive inspections for damage of the center tank fuel pumps and fuel pump canisters and replacement of any damaged parts, and modification of the canisters of the center tank fuel pumps, which terminates the repetitive inspections. For certain airplanes, that NPRM also proposed to require a one-time inspection of the attachment bolts of the outlet flange of the canisters of the center tank fuel pumps for bolts that are too short and do not protrude through the nut, and replacement of the bolts if necessary.

Comments

We provided the public the opportunity to participate in the development of this AD. We have considered the comments that have been received on the NPRM.

Request for Exemption From New Actions

Airbus asks that we include a note that specifies that airplanes on which Airbus Service Bulletin A300-28-6069, Revision 02, dated October 17, 2003, has been accomplished previously are exempt from the new requirements in the NPRM.

American Airlines (AA) states that paragraph (j) of the NPRM does not specifically reference Service Bulletin A300-28-6069, Revision 02; therefore, AA concludes that airplanes modified per Revision 02 are excluded from the NPRM because they would have been modified by incorporating the correct length bolt. AA adds that paragraph (j) instructs operators to do all the actions in accordance with paragraphs 3.A., 3.B., 3.C., 3.D., and 3.E. of the Accomplishment Instructions of Airbus Service Bulletin A300-28-6087, dated April 8, 2005. AA notes that Service Bulletin A300-28-6087 specifies that if the additional work in Service Bulletin A300-28-6069, Revision 02, has been accomplished, the actions specified in Service Bulletin A300-28-6087 are not applicable. AA states that this conclusion may not be readily apparent to all operators and should be clarified.

We agree with the above comments. We have included a note which specifies that airplanes modified in accordance with Service Bulletin A300-28-6069, Revision 02, are not subject to the requirements of paragraph (j) of this AD.

Request for Increased Administrative Responsiveness

AA provided comments on its perception of the lack of administrative responsiveness to relevant emerging service information affecting regulatory actions. AA states that AD 2004-23-08, amendment 39-13863 (69 FR 65528, November 15, 2004), issued on November 15, 2004, is an example of where relevant information to the regulatory actions was published prior to the release of the subject NPRM. AA adds that the unsafe condition addressed in this NPRM supersedure was first published in Airbus Service Bulletin A300-28-6069, Revision 02, dated October 17, 2003, which was issued 13 months prior to the release of AD 2004-23-08 (the AD that was superseded). AA notes that sufficient awareness during that time should have allowed both unsafe conditions to be addressed concurrently in the NPRM.

Although AA did not submit a specific request, we acknowledge their comments. We make every effort to streamline our rulemaking process and ensure that a complete and up-to-date rulemaking package is issued. While the condition was addressed in an earlier service bulletin, the corresponding DGAC airworthiness directive was not published until after we issued AD 2004-23-08. At that time we discovered that an unsafe condition existed related to the actions required by that AD. We are responsible for ensuring the continued airworthiness of U.S. type certificated and U.S-registered airplanes. Thus, we determined it was necessary to address the identified unsafe condition. This AD is intended to address that unsafe condition, and we find no change to this AD is possible with regard to the commenter's statements.

Conclusion

We have carefully reviewed the available data, including the comments received, and determined that air safety and the public interest require adopting the AD as proposed.

Costs of Compliance

This AD affects about 101 airplanes of U.S. registry.

The inspections that are required by AD 2004-23-08, and retained in this AD, take about 2 work hours per airplane, at an average labor rate of $65 per work hour. Based on these figures, the estimated cost of the currently required inspections is $130 per airplane, per inspection cycle.

The modification that is required by AD 2004-23-08, and retained in this AD, takes about 2 work hours per airplane, at an average labor rate of $65 per work hour. Required parts will cost about $9,620 per airplane. Based on these figures, the estimated cost of the currently required modification is $9,750 per airplane.

The new one-time inspection takes about 1 work hour per airplane, at an average labor rate of $65 per work hour. Based on these figures, the estimated cost of the new inspection specified in this AD for U.S. operators is $6,565 or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government. For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13863 (69 FR 65528, November 15, 2004) and by adding the following new airworthiness directive (AD):

2006-11-01 Airbus: Amendment 39-14605. Docket No. FAA-2006-23760; Directorate Identifier 2005-NM-211-AD.

Effective Date

(a) This AD becomes effective June 27, 2006.

Affected ADs

(b) This AD supersedes AD 2004-23-08.

Applicability

(c) This AD applies to Airbus Model A300 B4-605R and B4-622R airplanes, and Model A300 F4-605R and F4-622R airplanes; certificated in any category; on which Airbus Modification 4801 has been accomplished; except airplanes on which Airbus Modification 12314 has been installed in production.

Unsafe Condition

(d) This AD results from several reports that the attachment bolts for the canisters, modified by the requirements in the existing AD, are too short and do not fully protrude from the nuts. We are issuing this AD to prevent damage to the fuel pump and fuel pump canister, which could result in loss of flame trap capability and could provide a fuel ignition source in the center fuel tank.

Compliance

(e) You are responsible for having the actions required by this AD performed within the compliance times specified, unless the actions have already been done.

Restatement of Requirements of AD 2004-23-08

Inspections

(f) Prior to the accumulation of 5,000 total hours' time-in-service or within 250 hours' time-in-service after February 8, 2000 (the effective date of AD 99-27-07 (superseded by AD 2004-23-08), amendment 39-11488), whichever occurs later, perform a detailed inspection for damage of the center tank fuel pumps and fuel pump canisters, in accordance with Airbus All Operators Telex (AOT) 28-09, dated November 28, 1998. Repeat the inspection prior to the accumulation of 12,000 total hours' time-in-service, or within 250 hours' time-in-service after accomplishment of the initial inspection, whichever occurs later. Thereafter, repeat the inspection at intervals not to exceed 250 hours' time-in-service, until accomplishment of the initial inspection required by paragraph (g) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) At the applicable time specified in paragraph (g)(1), (g)(2), or (g)(3) of this AD: Perform a detailed inspection to detect damage of the center tank fuel pumps and perform an eddy current inspection to detect damage of the fuel pump canisters, in accordance with Airbus Alert Service Bulletin A300-28A6061, dated February 19, 1999; or Airbus Service Bulletin A300-28-6061, Revision 04, dated August 1, 2002. Repeat the inspections thereafter at intervals not to exceed 1,500 flight cycles, until accomplishment of paragraph (i) of this AD. Accomplishment of the inspection required by this paragraph constitutes terminating action for the requirements of paragraph (f) of this AD.

(1) For airplanes that have accumulated 11,000 or more total flight cycles as of February 8, 2000: Inspect within 300 flight cycles after February 8, 2000.

(2) For airplanes that have accumulated 8,500 or more total flight cycles, but fewer than 11,000 total flight cycles, as of February 8, 2000: Inspect within 750 flight cycles after February 8, 2000.

(3) For airplanes that have accumulated fewer than 8,500 total flight cycles as of February 8, 2000: Inspect prior to the accumulation of 7,000 flight cycles, or within 1,500 flight cycles after February 8, 2000, whichever occurs later.

Corrective Action

(h) If any damage is detected during any inspection required by this AD, prior to further flight, replace the damaged fuel pump or fuel pump canister with a new or serviceable part in accordance with Airbus Alert Service Bulletin A300-28A6061, dated February 19, 1999; or Airbus Service Bulletin A300-28-6061, Revision 04, dated August 1, 2002.

Modification

(i) Within 18 months after December 20, 2004 (the effective date of AD 2004-23-08): Modify the canisters of the center tank fuel pumps (including an operational test) by doing all the actions in accordance with paragraphs 3.A., 3.B., 3.C., and 3.D. of the Accomplishment Instructions of Airbus Service Bulletin A300-28-6069, dated September 4, 2001; Revision 01, dated May 28, 2002; or Revision 02, dated October 17, 2003. After the effective date of this AD, Revision 02 of the service bulletin must be used for accomplishing the modification. Accomplishing this modification ends the repetitive inspections required by paragraph (g) of this AD.

New Requirements of This AD

One-Time Inspection/Replacement if Necessary

(j) For airplanes on which Airbus Service Bulletin A300-28-6069, dated September 4, 2001; or Revision 01, dated May 28, 2002, has been accomplished before the effective date of this AD: Within 18 months after the effective date of this AD, perform a one-time detailed inspection of the attachment bolts of the outlet flange of the canisters of the center tank fuel pumps for bolts that are too short and do not protrude through the nut, and replace the bolts as applicable, by doing all the actions in accordance with paragraphs 3.A., 3.B., 3.C., 3.D., and 3.E. of the Accomplishment Instructions of Airbus Service Bulletin A300-28-6087, dated April 8, 2005. Do any applicable bolt replacement before further flight.

Note 2: Airplanes modified in accordance with the Accomplishment Instructions of Airbus Service Bulletin A300-28-6069, Revision 02, dated October 17, 2003, are not subject to the requirements of paragraph (j) of this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2004-23-08 are approved as AMOCs for the corresponding provisions of this AD.

Related Information

(l) French airworthiness directive F-2005-147, dated August 17, 2005, also addresses the subject of this AD.

Material Incorporated by Reference

(m) You must use the service bulletins specified in Table 1 of this AD, as applicable; to perform the actions that are required by this AD, unless the AD specifies otherwise.

(1) The Director of the Federal Register approved the incorporation by reference of Airbus Service Bulletin A300-28-6069, dated September 4, 2001; Airbus Service Bulletin A300-28-6069, Revision 02, dated October 17, 2003; and Airbus Service Bulletin A300-28-6087, dated April 8, 2005, in accordance with 5 U.S.C. 552(a) and 1 CFR part 51.

(2) On December 20, 2004 (69 FR 65528, November 15, 2004), the Director of the Federal Register approved the incorporation by reference of Airbus Service Bulletin A300-28-6069, Revision 01, dated May 28, 2002; and Airbus Service Bulletin A300-28-6061, Revision 04, dated August 1, 2002.

(3) On February 8, 2000 (65 FR 213, January 4, 2000), the Director of the Federal Register approved the incorporation by reference of Airbus Alert Service Bulletin A300-28A6061, dated February 19, 1999.

(4) On December 28, 1998 (63 FR 70639, December 22, 1998), the Director of the Federal Register approved the incorporation by reference of Airbus All Operators Telex (AOT) 28-09, dated November 28, 1998.

(5) Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference
Airbus service information | Revision level | Date
Airbus Alert Service Bulletin A300-28A6061 | Original | February 19, 1999.
Airbus All Operators Telex 28-09 | Original | November 28, 1998.
Airbus Service Bulletin A300-28-6061 | 04 | August 1, 2002.
Airbus Service Bulletin A300-28-6069 | Original | September 4, 2001.
Airbus Service Bulletin A300-28-6069 | 01 | May 28, 2002.
Airbus Service Bulletin A300-28-6069 | 02 | October 17, 2003.
Airbus Service Bulletin A300-28-6087 | Original | April 8, 2005.

Issued in Renton, Washington, on May 11, 2006.
Ali Bahrami,
Manager, Transport Airplane Directorate, Aircraft Certification Service.

[FR Doc. 06-4675 Filed 5-22-06; 8:45 am]

BILLING CODE 4910-13-P